DEPARTMENT OF HOMELAND SECURITY

[Docket No. DHS-2015-0031]

President's National Security Telecommunications Advisory Committee

AGENCY: National Protection and Programs Directorate, Department of Homeland Security (DHS).

ACTION: Committee Management; Notice of an Open Federal Advisory Committee Meeting.

SUMMARY: The President's National Security Telecommunications Advisory Committee (NSTAC) will meet via teleconference on Wednesday, August 12, 2015. The meeting will be open to the public.

DATES: The NSTAC will meet on Wednesday, August 12, 2015, from 2:00 p.m. to 2:45 p.m. Please note that the meeting may close early if the committee has completed its business.

ADDRESSES: The meeting will be held via conference call. For access to the conference call bridge, information on services for individuals with disabilities, or to request special assistance to attend, please email NSTAC@hq.dhs.gov by 5:00 p.m. on Friday, August 7, 2015.

To facilitate public participation, we are inviting public comment on the issues to be considered by the committee as listed in the SUPPLEMENTARY INFORMATION section below. Associated briefing materials that will be discussed at the meeting will be available at www.dhs.gov/nstac for review as of Friday, August 7, 2015. Comments may be submitted at any time and must be identified by docket number DHS-2015-0031. Comments may be submitted by one of the following methods:

• Federal eRulemaking Portal: http://www.regulations.gov. Follow the instructions for submitting written comments.

• Email: NSTAC@hq.dhs.gov. Include the docket number in the subject line of the email message.

• Fax: 703-235-5962, Attn: Julia Madison.

• Mail: Designated Federal Officer, Stakeholder Engagement and Critical Infrastructure Resilience Division, National Protection and Programs Directorate, Department of Homeland Security, 245 Murray Lane, Mail Stop 0604, Arlington, VA 20598-0604.

Instructions: All submissions received must include the words “Department of Homeland Security” and the docket number for this action. Comments received will be posted without alteration at www.regulations.gov, including any personal information provided.

Docket: For access to the docket and comments received by the NSTAC, go to www.regulations.gov and enter docket number DHS-2015-0031.

A public comment period will be held during the conference call on Wednesday, August 12, 2015, from 2:35 p.m. to 2:45 p.m. Speakers who wish to participate in the public comment period must register in advance by no later than Monday, August 10, 2015, at 5:00 p.m. by emailing NSTAC at NSTAC@hq.dhs.gov. Speakers are requested to limit their comments to three minutes and will speak in order of registration. Please note that the public comment period may end before the time indicated, following the last request for comments.

FOR FURTHER INFORMATION CONTACT: Ms. Helen Jackson, NSTAC Designated Federal Officer, Department of Homeland Security, telephone (703) 235-5321.

SUPPLEMENTARY INFORMATION: Notice of this meeting is given under the Federal Advisory Committee Act (FACA), 5 U.S.C. Appendix. The NSTAC advises the President on matters related to national security and emergency preparedness telecommunications policy.

Agenda: In February 2015, the Executive Office of the President requested that the NSTAC examine how the utilization of Big Data Analytics could enhance National Security/Emergency Preparedness functions for the Nation. During the conference call, the NSTAC members will discuss their recent scoping phase on big data analytics and their approach or methodology for the research phase of the study. Following the discussion, the members will deliberate and vote on the Big Data Analytics Scoping Report.

Dated: July 21, 2015.
Helen Jackson,
Designated Federal Officer for the NSTAC.

[FR Doc. 2015-18383 Filed 7-24-15; 8:45 am]

BILLING CODE 9110-9P-P